NUCLEAR REGULATORY COMMISSION

[Docket Nos. 50-352 and 50-353; NRC-2022-0061]

Constellation Energy Generation, LLC; Limerick Generating Station, Units 1 and 2

AGENCY: Nuclear Regulatory Commission.

ACTION: License amendment; partial issuance and denial, opportunity to demand a hearing.

SUMMARY: The U.S. Nuclear Regulatory Commission (NRC) has issued amendments to Constellation Energy Generation, LLC (Constellation, the licensee) for Renewed Facility Operating License Nos. NPF-39 and NPF-85 for operation of the Limerick Generating Station, Units 1 and 2 (Limerick), located in Montgomery County, Pennsylvania. These amendments revise a license condition in each license to allow the use of an alternative seismic approach to categorizing structures, systems, and components in the licensee's application of NRC regulations. The NRC has also denied Constellation's request for amendments to Renewed Facility Operating License Nos. NPF-39 and NPF-85 for operation of Limerick to allow proposed alternative defense-in-depth and pressure boundary component processes for categorizing structures, systems, and components in the licensee's application of NRC regulations.

DATES: A demand for an adjudicatory hearing with respect to the denial must be filed by June 12, 2023. Under paragraph 2.307(a) of title 10 of the Code of Federal Regulations (10 CFR), the applicant may request an extension of this time limit if it can show good cause.

ADDRESSES: Please refer to Docket ID NRC-2022-0061 when contacting the NRC about the availability of information regarding this document. You may obtain publicly available information related to this document using any of the following methods:

• Federal Rulemaking Website: Go to https://www.regulations.gov and search for Docket ID NRC-2022-0061. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Audrey Klett, Office of Nuclear Reactor Regulation, U.S. Nuclear Regulatory Commission, Washington, DC 20555-0001, telephone: 301-415-0489, email: Audrey.Klett@nrc.gov.

SUPPLEMENTARY INFORMATION:

I. Partial License Amendment Issuance Discussion

The NRC has issued Constellation Energy Generation, LLC (Constellation, the licensee) amendments to Renewed Facility Operating License Nos. NPF-39 and NPF-85 for operation of the Limerick Generating Station, Units 1 and 2, located in Montgomery County, Pennsylvania. A publicly available version of the NRC staff's Safety Evaluation is available in ADAMS under Package Accession No. ML23090A163. Documents related to these amendments are listed in the Safety Evaluation enclosed with the amendment. The amendments were effective as of the date of their issuance, to be implemented within 60 days.

The amendments revise a license condition in each license to allow the use of an alternative seismic approach to categorizing structures, systems, and components in the licensee's application of 10 CFR 50.69.

The application for the amendments complies, in part, with the standards and requirements of the Atomic Energy Act of 1954, as amended (the Act), and the Commission's rules and regulations. The Commission has made appropriate findings, as required by the Act and the Commission's rules and regulations in 10 CFR chapter I, which are set forth in the license amendment.

A Notice of Consideration of Issuance of Amendment and Proposed No Significant Hazards Consideration Determination and Opportunity for Hearing in connection with this action was published in the Federal Register on August 10, 2021 (86 FR 43686), as amended by notices dated February 22, 2022 (87 FR 9647), and March 18, 2022 (87 FR 15458). No request for a hearing or petition for leave to intervene was filed following each notice.

The Commission has determined that these amendments satisfy the criteria for categorical exclusion in accordance with 10 CFR 51.22. Therefore, pursuant to 10 CFR 51.22(b), no environmental impact statement or environmental assessment need be prepared for this amendment.

II. Partial Denial of License Amendment Discussion

The NRC has partially denied a request by Constellation Energy Generation, LLC dated March 11, 2021, as supplemented by letters dated May 5, 2021, December 15, 2021, February 14, 2022, and June 30, 2022 (ADAMS Accession Nos. ML21070A412, ML21125A215, ML21349B364, ML22045A480, and ML22182A400, respectively), to amend Renewed Facility Operating License Nos. NPF-39 and NPF-85 for operation of the Limerick Generating Station, Units 1 and 2. Specifically, the licensee requested to use proposed alternative defense-in-depth and pressure boundary component processes for categorizing structures, systems, and components in the licensee's application of 10 CFR 50.69.

As previously stated, a Notice of Consideration of Issuance of Amendment and Proposed No Significant Hazards Consideration Determination and Opportunity for Hearing in connection with this action was published in the Federal Register on August 10, 2021 (86 FR 43686), as amended by notices dated February 22, 2022 (87 FR 9647), and March 18, 2022 (87 FR 15458). No request for a hearing or petition for leave to intervene was filed following each notice.

The NRC staff has advised the licensee that these aspects of the proposed amendments are denied because the proposed defense-in-depth and pressure boundary categorization processes do not meet 10 CFR 50.69. The NRC staff's Safety Evaluation (ADAMS Package Accession No. ML23094A179) explains the nature of any deficiencies and the reason for the denial.

The licensee was notified of the Commission's denial of the proposed change by a letter dated May 17, 2023 (ADAMS Accession No. ML23089A124).

III. Opportunity To Demand a Hearing

Under 10 CFR 2.103(b)(2), within 20 days after the date of publication of this notice, the applicant may demand an adjudicatory hearing with respect to the denial previously described. Under 10 CFR 2.307(a), the applicant may request an extension of this time limit if the applicant can show good cause.

A demand for a hearing must be filed in accordance with 10 CFR part 2, “Agency rules of practice and procedure,” which is accessible electronically on the NRC's public website at https://www.nrc.gov/reading-rm/doc-collections/cfr. Generally, a demand for a hearing should explain why the applicant believes that the NRC denied its application in error and why the applicant believes that the application does, in fact, satisfy the requirements.

IV. Electronic Submissions (E-Filing)

A demand for a hearing must also be filed in accordance with the NRC's E-Filing rule at 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a demand for a hearing (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

For further details with respect to this action, see the application for amendments dated March 11, 2021, as supplemented by letters dated May 5, 2021, December 15, 2021, February 14, 2022, and June 30, 2022 (ADAMS Accession Nos. ML21070A412, ML21125A215, ML21349B364, ML22045A480, and ML22182A400, respectively).

Dated: May 17, 2023.
For the Nuclear Regulatory Commission.
Audrey L. Klett,
Senior Project Manager, Plant Licensing Branch I, Division of Operating Reactor Licensing, Office of Nuclear Reactor Regulation.

[FR Doc. 2023-10974 Filed 5-22-23; 8:45 am]

BILLING CODE 7590-01-P